FEDERAL ELECTION COMMISSION

Sunshine Act Notices

AGENCY: Federal Election Commission.

Date & Time: Tuesday, October 29, 2002 at 10 a.m.

Place: 999 E Street, NW., Washington, DC.

Status: This Meeting Will be Closed to the Public.

Items to be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

Date & Time: Thursday, October 31, 2001 at 10 a.m.

Place: 999 E Street, NW., Washington, DC (Ninth Floor)

Status: This Meeting Will be Open to the Public.

Items to be Discussed:

Correction and Approval of Minutes.

Final Rules and Explanation and Justification on Contribution Limitations and Prohibitions.

Administrative Matters.

Person to Contact for Information: Mr. Ron Harris, Press Officer, Telephone: (202) 694-1220.

Mary W. Dove,
Secretary of the Commission.

[FR Doc. 02-27213 Filed 10-22-02; 11:31 am]

BILLING CODE 6715-01-M